DEPARTMENT OF COMMERCE

International Trade Administration

[A-823-810]

Solid Agricultural Grade Ammonium Nitrate from Ukraine: Continuation of Antidumping Duty Order

AGENCY: Import Administration, International Trade Administration, Department of Commerce.

SUMMARY: As a result of the determinations by the Department of Commerce (“the Department”) and the International Trade Commission (“ITC”) that revocation of the antidumping duty order on solid agricultural grade ammonium nitrate from Ukraine would likely lead to continuation or recurrence of dumping, and material injury to an industry in the United States, the Department is publishing notice of continuation of this antidumping duty order.

EFFECTIVE DATE: July 9, 2007.

FOR FURTHER INFORMATION CONTACT: Audrey Twyman or Brandon Farlander, AD/CVD Operations, Office 1, Import Administration, International Trade Administration, U.S. Department of Commerce, 14th Street & Constitution Avenue, NW, Washington, DC 20230; telephone: (202) 482-3534 and (202) 482-0182, respectively.

SUPPLEMENTARY INFORMATION:

Background

On August 1, 2006, the Department initiated and the ITC instituted sunset reviews of the antidumping duty order on solid agricultural grade ammonium nitrate from Ukraine pursuant to section 751(c) of the Tariff Act of 1930, as amended (“the Act”).¹

¹ See Initiation of Five-Year (“Sunset”) Reviews, 71 FR 43443 (August 1, 2006); and Ammonium Nitrate From Ukraine Investigation No. 731-TA-894, 71 FR 43516 (August 1, 2006).

As a result of its review, the Department found that revocation of the antidumping duty order would likely lead to continuation or recurrence of dumping, and notified the ITC of the magnitude of the margins likely to prevail were the order to be revoked.² On June 27, 2007, the ITC determined pursuant to section 751(c) of the Act, that revocation of the antidumping duty order on solid agricultural grade ammonium nitrate from Ukraine would likely lead to continuation or recurrence of material injury to an industry in the United States within a reasonably foreseeable time.³

² See Solid Agricultural Grade Ammonium Nitrate from Ukraine; Final Results of the Expedited Sunset Review of the Antidumping Duty Order, 71 FR 70508 (December 5, 2006).

³ See Certain Ammonium Nitrate From Ukraine Investigation No. 731-TA-894, 72 FR 35260 (June 27, 2007).

Scope of the Order

The merchandise covered by this order are solid, fertilizer grade ammonium nitrate (“ammonium nitrate” or “subject merchandise”) products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this investigation is classified in the Harmonized Tariff Schedule of the United States (“HTSUS”) at subheading 3102.30.00.00. HTSUS subheadings are provided for convenience and customs purposes. The written description of the scope of the order is dispositive.

Determination

As a result of the determinations by the Department and the ITC that revocation of this antidumping duty order would likely lead to continuation or recurrence of dumping and material injury to an industry in the United States, pursuant to section 751(d)(2) of the Act, the Department hereby orders the continuation of the antidumping duty order on solid agricultural grade ammonium nitrate from Ukraine.

U.S. Customs and Border Protection will continue to collect antidumping duty cash deposits at the rates in effect at the time of entry for all imports of subject merchandise.

The effective date of continuation of this order will be the date of publication in the Federal Register of this Notice of Continuation. Pursuant to section 751(c)(2) and 751(c)(6)(A) of the Act, the Department intends to initiate the next five-year review of this order not later than June 2012.

This five-year (sunset) review and this notice are in accordance with section 751(c) of the Act. This notice is published pursuant to 751(c) and 771(i) of the Act and 19 CFR 351.218(f)(4).

Dated: July 2, 2007.
David M. Spooner,
Assistant Secretary for Import Administration.

[FR Doc. E7-13279 Filed 7-6-07; 8:45 am]

BILLING CODE 3510-DS-S